DEPARTMENT OF DEFENSE

Office of the Secretary

Notice of Virtual Listening Session

AGENCY: Department of Defense (DoD).

ACTION: Notice; announcement of virtual listening session.

SUMMARY: The Department of Defense Internal Review Team on Racial Disparities in the Investigative and Military Justice Systems will host a virtual listening session on July 27, 2022. The purpose of this session is to receive oral feedback from a variety of groups on topics of general interest to the Internal Review Team. Target respondent groups include: (1) racial affinity groups with an interest in criminal justice, law enforcement, or racial equity in the military; (2) professional organizations representing criminal justice or law enforcement personnel, advocacy groups focused on the military justice system, and organizations focused on issues relating to race, justice, and the law; (3) members of Congress and staff of the Committees on Armed Services of the Senate and the House of Representatives, and interested House Caucuses; (4) components of other Federal agencies, Congressionally-chartered organizations, and Federally Funded Research and Development Centers; and (5) “think tanks” and members of academia with significant experience in issues at the intersection of race and policing, criminal justice, or the military justice system. Groups and other interested members of the public may also attend the virtual listening session on a “view/listen only” basis. Groups and interested members of the public are also invited to submit written feedback, including related data and research. For more information on this event see the SUPPLEMENTARY INFORMATION section of this announcement.

DATES: The Internal Review Team on Racial Disparities in the Investigative and Military Justice Systems will host a virtual listening session on July 27, 2022. The virtual listening session will be conducted via live webcast and will be open to participation by a variety of groups interested in providing oral feedback. In addition, groups and interested members of the public may participate in all or part of the virtual listening session in a “view/listen only” mode. The session will start at 10:00 a.m. eastern time (ET) and will end no later than 2:00 p.m. ET. Virtual check-in for the event will begin at 9:00 a.m. ET. The deadline for groups to register to provide oral feedback during the session is 12:00 p.m. ET on July 20, 2022. The deadline for groups and interested members of the public to register to participate in a “view/listen only” mode is 12:00 p.m. ET on July 22, 2022. The deadline for groups and interested members of the public to submit written feedback for consideration by the Internal Review Team is 12:00 p.m. ET on July 22, 2022; written feedback received after the deadline will not be reviewed. Instructions on registration and the submission of oral and written feedback are set forth in the SUPPLEMENTARY INFORMATION section of this announcement.

ADDRESSES: The virtual listening session can be accessed via the internet and/or telephone. Access information and codes will be provided to those groups and interested members of the public who register for the event. The total number of participants in the virtual listening session will be limited to the maximum allowed by the live webcast platform.

FOR FURTHER INFORMATION CONTACT: Ms. Katrina Logan, IRT Executive Secretary, at (703) 839-5173 (this is not a toll free number) or katrina.l.logan4.civ@mail.mil.

SUPPLEMENTARY INFORMATION:

I. Background

In May 2019, the Government Accountability Office (GAO) issued its report, DoD and the Coast Guard Need to Improve their Capabilities to Assess Racial and Gender Disparities (GAO-19-344). GAO analyzed all offenses under the Uniform Code of Military Justice and found that Black and Hispanic servicemembers were more likely than white servicemembers to be the subjects of investigations in all of the Military Services and were more likely to be tried by court-martial in the Army, Navy, Marine Corps, and Air Force. GAO recommended that the Secretary of Defense take steps to identify and address the causes of disparities in these systems.

On May 3, 2022, the Deputy Secretary of Defense directed the establishment of the Internal Review Team on Racial Disparities in the Investigative and Military Justice Systems to provide actionable recommendations the Department can implement to improve strategies, programs, policies, processes, and resources to address racial disparities in the investigative and military justice systems. The Internal Review Team comprises military General Officers and members of the Department of Defense Senior Executive Service who, with the support of subject matter experts, will focus their full-time efforts on this review. The Internal Review Team began its work on June 1, 2022, and is charged to provide its findings and recommendations to the Deputy Secretary not later than August 24, 2022.

II. Oral and Written Feedback Requested

The Internal Review Team will host a virtual listening session to obtain oral feedback from a variety of groups on topics of general interest to the Internal Review Team. Target respondent groups include: (1) racial affinity groups with an interest in criminal justice, law enforcement, or racial equity in the military; (2) professional organizations representing criminal justice or law enforcement personnel, advocacy groups focused on the military justice system, and organizations focused on issues relating to race, justice, and the law; (3) members of Congress and staff of the Committees on Armed Services of the Senate and the House of Representatives, and interested House Caucuses; (4) components of other Federal agencies, Congressionally-chartered organizations, and Federally Funded Research and Development Centers; and (5) “think tanks” and members of academia with significant experience in issues at the intersection of race and policing, criminal justice, or the military justice system. Groups and other interested members of the public may also participate in the virtual listening session on a “view/listen only” basis. Regardless of participation in the virtual listening session, groups and interested members of the public are invited to submit written feedback, including data and research. The Internal Review Team intends to consider feedback received prior to and during the session to inform its findings and recommendations to the Deputy Secretary of Defense.

III. Instructions for Registration and Participation in the Virtual Listening Session

Recording: The virtual listening session will be recorded and a copy maintained in the records of the Internal Review Team.

Oral Feedback: Groups that wish to provide oral feedback during the virtual listening session must register to do so not later than 12:00 p.m. ET, on July 20, 2022.

To register to provide oral feedback, groups must send an email to the Internal Review Team electronic “drop box” at doddisparities@mnbdefense.com. The registration email must include: (1) the sender's name and the name of the group the sender represents; (2) a statement that the group wishes to provide oral feedback during the virtual listening session; and (3) a valid email address to which the Internal Review Team can send additional administrative information, including virtual listening session access codes. The virtual listening session will be conducted informally. Each group that has registered to provide oral feedback should be represented during the virtual listening session by no more than two persons. There will be no opportunity for audio-visual presentations during the session. A group's oral feedback will be limited to 10 minutes per group (regardless of the number of people representing the group). To enable the participation of as many groups as possible, these time limits will be strictly enforced. At the expiration of the 10 minutes allotted for each group, the group will be expected to cede the floor to the next presenter, and may be “cut off” by the session administrator, if required. Groups will be scheduled to provide oral feedback in the order in which their completed registration email (including all required information) was received in the IRT electronic “drop box” at doddisparities@mnbdefense.com. Each registered group will be invited to provide feedback, in the prescribed order, until the four hours allotted for the virtual listening session expires. Not later than 12:00 p.m. ET on July 25, 2022, registered groups will be informed of the order in which each will present during the virtual listening session. At the expiration of the four-hour session, no further oral feedback will be accepted from any group, even if properly registered. Groups registering to provide oral feedback are also welcomed to provide written copies of their expected remarks, but any written material must be received by 12:00 p.m. ET on July 22, 2022. Participating members of the Internal Review Team will be in a “listening and learning” posture during the virtual session, but may ask a participating group to clarify or expand on its presentation. Due to the deliberative nature of the Internal Review Team's work, members of the Team are unable to discuss their thoughts, plans, or intentions for specific recommendations that will ultimately be made to the Deputy Secretary of Defense.

“View/Listen Only” Registration: The deadline for groups and interested members of the public to register to participate in the virtual listening session in a “view/listen only” mode is 12:00 p.m. ET, on July 22, 2022. To register for the “view/listen only” option, groups and interested members of the public must send an email to the Internal Review Team electronic “drop box” at doddisparities@mnbdefense.com. The email must include: (1) the statement, “We are/I am registering for the `view/listen only' option”; and (2) a valid email address to which the Internal Review Team can send any additional administrative information, including session access codes. “View/Listen Only” participants will not be able to present, ask questions, or provide commentary orally or through written means during the virtual listening session; their microphones/phones/audio lines will be muted, and no chat function will be available.

Written Feedback: Regardless of participation in the virtual listening session, groups and interested members of the public are invited to submit written feedback to the Internal Review Team, including data and research. The deadline for submission of written feedback for consideration by the Team is 12:00 p.m. ET, on July 22, 2022. Written feedback received after the deadline will not be reviewed. Written feedback must be submitted via email to the Internal Review Team electronic “drop box” at doddisparities@mnbdefense.com. Written feedback may include attachments and should include a cover sheet referencing the total number of pages of written feedback submitted and the date and page number of this issue of the Federal Register.

General Instructions for Oral and Written Feedback: Groups and interested members of the public are encouraged to provide oral and/or written feedback (as indicated above) in regard to some or all of the four topics of general interest to the Internal Review Team set forth below, but may provide other relevant feedback for consideration. Both oral and written feedback may be structured as the submitter sees fit. Oral or written feedback should not include: (1) proprietary or copyrighted information or (2) personally identifiable information beyond that minimally necessary for self-identification (e.g., name of individual and title within organization, if applicable).

Virtual Accommodations: If you are a group that will provide oral feedback during the virtual session or a group or any interested member of the public who will participate in “view/listen only” mode and require a reasonable accommodation, please make requests for sign language interpretation or other reasonable accommodation in advance, by including your request in the registration email sent to the Internal Review Team electronic “drop box” at doddisparities@mnbdefense.com, not later than 12:00 p.m. on July 22, 2022. Decisions regarding reasonable accommodation requests will be made on a case-by-case basis.

Cancellation: Should it be necessary to cancel the virtual listening session due to technical issues, an emergency, or for other reasons, the Internal Review Team will take available measures to notify registered groups and persons.

IV. Topics of General Interest to the Internal Review Team

(1) The root causes of racial disparities in the investigative and military justice systems of the Department of Defense.

(2) In considering actions to address the root causes of racial disparities in the DoD investigative and military justice systems, the specific actions that would have the most significant effects in the short term and specific actions that will require the Department's long-term engagement and commitment.

(3) Performance factors or metrics the DoD could apply to measure progress in mitigating or eliminating racial disparities in its investigative and military justice systems.

(4) Best practices for addressing racial disparities in other contexts that should be considered to address racial disparities in the investigative and military justice systems of the Department of Defense.

Dated: July 15, 2022.
Aaron T. Siegel,
Alternate OSD Federal Register Liaison Officer, Department of Defense.

[FR Doc. 2022-15486 Filed 7-19-22; 8:45 am]

BILLING CODE 5001-06-P